INTERNATIONAL TRADE COMMISSION

[Investigation No. 337-TA-903]

Certain Antivenom Compositions and Products Containing the Same Commission Determination Not To Review an Initial Determination Terminating the Investigation Based on a Settlement Agreement; Termination of the Investigation

AGENCY: U.S. International Trade Commission.

ACTION: Notice.

SUMMARY: Notice is hereby given that the U.S. International Trade Commission has determined not to review an initial determination (“ID”) (Order No. 62) issued by the presiding administrative law judge (“ALJ”) on November 13, 2014, terminating the investigation based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 11, 2013, based on a complaint filed by BTG International Inc. (“BTG”) of West Conshohocken, Pennsylvania. 78 FR 75372-73. The complaint alleges violations of section 337 of the Tariff Act of 1930, as amended, 19 U.S.C. 1337, in the importation into the United States, the sale for importation, and the sale within the United States after importation of certain antivenom compositions and products containing the same through the infringement of certain claims of U.S. Patent No. 8,048,414. Id. at 75373. The Commission's notice of investigation named as respondents Veteria Laboratories of Mexico and BioVeteria Life Sciences, LLC of Prescott, Arizona (together, “Veteria”); Instituto Bioclon S.A. de C.V. of Mexico, Laboratorios Silanes S.A. de C.V. of Mexico, and Rare Disease Therapeutics, Inc., of Franklin, Tennessee (collectively, “Respondents”); and the Silanes Group of Mexico. Id. The Commission previously terminated the investigation with respect to Veteria based on a partial withdrawal of the complaint. Order No. 14 (Mar. 11, 2014), not reviewed Apr. 1, 2014. The Office of Unfair Import Investigations was also named as a party to the investigation. 78 FR 75373.

On October 10, 2014, BTG and Respondents filed a joint motion to terminate the investigation in its entirety based on a settlement agreement. The motion attached confidential and public versions of the settlement agreement and stated that there were no other agreements, written or oral, express or implied, between BTG and Respondents. The motion also stated that terminating the investigation would not adversely affect the public interest.

On October 23, 2014, the Commission Investigative Attorney (“IA”) filed a response in support of the parties' motion. The IA stated that the termination of the investigation was in the public interest. On October 30, 2014, the parties filed a modified public version of the settlement agreement with fewer redactions.

On November 13, 2014, the ALJ issued the subject ID, granting the parties' motion and terminating the investigation in its entirety. The ALJ found that the motion complied with the Commission rules and does not impose any undue burden on the public interest.

The Commission has determined not to review the subject ID.

The authority for the Commission's determination is contained in section 337 of the Tariff Act of 1930, as amended (19 U.S.C. 1337), and in Part 210 of the Commission's Rules of Practice and Procedure (19 CFR part 210).

Issued: December 5, 2014.
By order of the Commission.
Lisa R. Barton,
Secretary to the Commission.

[FR Doc. 2014-28901 Filed 12-9-14; 8:45 am]

BILLING CODE 7020-02-P